COMMISSION ON CIVIL RIGHTS

Sunshine Act Notice

AGENCY: United States Commission on Civil Rights.

ACTION: Notice of meeting.

DATE AND TIME: Friday, February 20, 2009; 9:30 a.m.

PLACE: 624 Ninth Street, NW., Rm. 540, Washington, DC 20425.

Meeting Agenda

I. Approval of Agenda.

II. Approval of Minutes of December 12, 2008 and January 16, 2009 Meetings.

III. Announcements.

IV. Staff Director's Report.

V. Management and Operations.

• FY 2010 Budget Request

VI. Program Planning.

• Findings and Recommendations for Briefing Report on Department of Justice's Enforcement of Voting Rights in 2008 Presidential Election

• Request To Extend the Public Comment Period for the Briefing on “Specifying English as the Common Language of the Workplace: Every Employer's Right or Violation of Federal Law?”

VII. State Advisory Committee Issues.

• Oklahoma SAC

VIII. Future Agenda Items.

IX. Adjourn.

CONTACT PERSON FOR FURTHER INFORMATION; Lenore Ostrowsky, Acting Chief, Public Affairs Unit (202) 376-8582. TDD: (202) 376-8116.

Persons with a disability requiring special services, such as an interpreter for the hearing impaired, should contact Pamela Dunston at least seven days prior to the meeting at 202-376-8105.

Dated: February 10, 2009.
David Blackwood,
General Counsel.

[FR Doc. E9-3177 Filed 2-17-09; 8:45 am]

BILLING CODE 6335-01-M